NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 15, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant

Permit Application: 2014-016

Zicheng Yu

Department of Earth and Environmental Science

Lehigh University

Bethlehem, PA

Activity for Which Permit Is Requested

ASPA Entry; The applicant requests access to ASPA 113 Litchfield Island to collect small samples of moss and peat and to deploy small data loggers and sensors for the duration of the permit . Litchfield Island has thriving and pristine peat moss bank communities. Samples could be gathered easily without significantly impacting the moss populations. All loggers and sensors would be removed before the permit expires. Data gathered from this research will advance the understanding of peat moss banks to climate change during the last 50-1000 years.

Location

ASPA 113 Litchfield Island.

Dates

November 1, 2013 to April 15, 2014.

Nadene G. Kennedy,
Polar Coordination Specialist, Division of Polar Programs.

[FR Doc. 2013-22194 Filed 9-11-13; 8:45 am]

BILLING CODE 7555-01-P